DEPARTMENT OF ENERGY

Federal Energy Regulatory Commission

Combined Notice of Filings #1

Take notice that the Commission received the following exempt wholesale generator filings:

Docket Numbers: EG26-104-000.

Applicants: Arlington Energy Storage LLC.

Description: Arlington Energy Storage LLC submits Notice of Self-Certification of Exempt Wholesale Generator Status.

Filed Date: 12/15/25.

Accession Number: 20251215-5376.

Comment Date: 5 p.m. ET 1/5/26.

Docket Numbers: EG26-105-000.

Applicants: Mark Center Solar Project, LLC.

Description: Mark Center Solar Project, LLC submits Notice of Self-Certification of Exempt Wholesale Generator Status.

Filed Date: 12/16/25.

Accession Number: 20251216-5216.

Comment Date: 5 p.m. ET 1/6/26.

Take notice that the Commission received the following electric rate filings:

Docket Numbers: ER20-2878-024.

Applicants: Pacific Gas and Electric Company.

Description: Compliance filing: WDT3: Order on Initial Decision Compliance Filing to be effective 4/15/2021.

Filed Date: 12/15/25.

Accession Number: 20251215-5428.

Comment Date: 5 p.m. ET 1/5/26.

Docket Numbers: ER22-1361-001.

Applicants: Georgia-Pacific Toledo LLC.

Description: Amendment to 08/15/2024 Notice of Change in Status of Georgia-Pacific Toledo LLC.

Filed Date: 12/15/25.

Accession Number: 20251215-5297.

Comment Date: 5 p.m. ET 1/5/26.

Docket Numbers: ER24-1665-001.

Applicants: Oak Leaf Solar 56 LLC.

Description: Supplement to 09/16/2024, Notice of Non-Material Change in Status of Oak Leaf Solar 56 LLC.

Filed Date: 12/15/25.

Accession Number: 20251215-5303.

Comment Date: 5 p.m. ET 1/5/26.

Docket Numbers: ER26-228-001.

Applicants: Interstate Power and Light Company, ITC Midwest LLC.

Description: Tariff Amendment: Interstate Power and Light Company submits tariff filing per 35.17(b): Amended Update to O&T Agreement Exhibits and Appendices (2025) to be effective 12/23/2025.

Filed Date: 12/15/25.

Accession Number: 20251215-5415.

Comment Date: 5 p.m. ET 1/5/26.

Docket Numbers: ER26-771-000.

Applicants: Pediment BESS I LLC.

Description: Initial Rate Filing: Co-Tenancy and Shared Facilities Agreement to be effective 2/14/2026.

Filed Date: 12/15/25.

Accession Number: 20251215-5452.

Comment Date: 5 p.m. ET 1/5/26.

Docket Numbers: ER26-772-000.

Applicants: AR Solar 1, LLC.

Description: Request for Limited and Prospective Waiver, et al. of AR Solar 1, LLC.

Filed Date: 12/15/25.

Accession Number: 20251215-5463.

Comment Date: 5 p.m. ET 1/5/26.

Docket Numbers: ER26-777-000.

Applicants: ISO New England Inc.

Description: ISO New England Inc. Informational Filing of External Market Monitor Contract with its External Market Monitor, Potomac Economics, Ltd., for the years 2026 through 2028.

Filed Date: 12/15/25.

Accession Number: 20251215-5470.

Comment Date: 5 p.m. ET 1/5/26.

Docket Numbers: ER26-778-000.

Applicants: NorthWestern Corporation.

Description: § 205(d) Rate Filing: SA 254—NWE MATL TIA—2nd Revised Agreement to be effective 12/15/2025.

Filed Date: 12/16/25.

Accession Number: 20251216-5104.

Comment Date: 5 p.m. ET 1/6/26.

Docket Numbers: ER26-779-000.

Applicants: Southwest Power Pool, Inc.

Description: § 205(d) Rate Filing: Revisions to Attachment AE Regarding the “Tank Test” to be effective 4/15/2026.

Filed Date: 12/16/25.

Accession Number: 20251216-5132.

Comment Date: 5 p.m. ET 1/6/26.

Docket Numbers: ER26-781-000.

Applicants: Southern California Edison Company.

Description: § 205(d) Rate Filing: LOA, The City of Pasadena (EAD010/RS No. 539) to be effective 12/17/2025.

Filed Date: 12/16/25.

Accession Number: 20251216-5159.

Comment Date: 5 p.m. ET 1/6/26.

Docket Numbers: ER26-782-000.

Applicants: Alabama Power Company, Georgia Power Company, Mississippi Power Company.

Description: Tariff Amendment: Alabama Power Company submits tariff filing per 35.15: Tri-State Solar Project LGIA Termination Filing to be effective 12/16/2025.

Filed Date: 12/16/25.

Accession Number: 20251216-5170.

Comment Date: 5 p.m. ET 1/6/26.

Docket Numbers: ER26-783-000.

Applicants: Alabama Power Company, Georgia Power Company, Mississippi Power Company.

Description: Tariff Amendment: Alabama Power Company submits tariff filing per 35.15: Tri-State Solar Project (Phase 2) LGIA Termination Filing to be effective 12/16/2025.

Filed Date: 12/16/25.

Accession Number: 20251216-5172.

Comment Date: 5 p.m. ET 1/6/26.

Docket Numbers: ER26-784-000.

Applicants: Alabama Power Company, Georgia Power Company, Mississippi Power Company.

Description: Tariff Amendment: Alabama Power Company submits tariff filing per 35.15: SE Solar I (Kingston Solar) LGIA Termination Filing to be effective 12/16/2025.

Filed Date: 12/16/25.

Accession Number: 20251216-5174.

Comment Date: 5 p.m. ET 1/6/26.

Docket Numbers: ER26-785-000.

Applicants: Alabama Power Company, Georgia Power Company, Mississippi Power Company.

Description: Tariff Amendment: Alabama Power Company submits tariff filing per 35.15: Dale County Solar Project (Hybrid Project) LGIA Termination Filing to be effective 12/16/2025.

Filed Date: 12/16/25.

Accession Number: 20251216-5178.

Comment Date: 5 p.m. ET 1/6/26.

Docket Numbers: ER26-786-000.

Applicants: Alabama Power Company, Georgia Power Company, Mississippi Power Company.

Description: Tariff Amendment: Alabama Power Company submits tariff filing per 35.15: SR Hope Hull LGIA Termination Filing to be effective 12/16/2025.

Filed Date: 12/16/25.

Accession Number: 20251216-5180.

Comment Date: 5 p.m. ET 1/6/26.

Docket Numbers: ER26-787-000.

Applicants: PowerTransitions Marketing LLC.

Description: Initial Rate Filing: PowerTransitions Marketing—Market Based Rate Tariff to be effective 2/15/2026.

Filed Date: 12/16/25.

Accession Number: 20251216-5202.

Comment Date: 5 p.m. ET 1/6/26.

Docket Numbers: ER26-788-000.

Applicants: PJM Interconnection, L.L.C.

Description: § 205(d) Rate Filing: NSA, Original Service Agreement No. 7777 Queue No. AE2-343 to be effective 2/15/2026.

Filed Date: 12/16/25.

Accession Number: 20251216-5223.

Comment Date: 5 p.m. ET 1/6/26.

Docket Numbers: ER26-789-000.

Applicants: Talen Montana, LLC.

Description: § 205(d) Rate Filing: Market-Based Rate Tariff Revisions to be effective 12/17/2025.

Filed Date: 12/16/25.

Accession Number: 20251216-5256.

Comment Date: 5 p.m. ET 1/6/26.

Docket Numbers: ER26-790-000.

Applicants: San Diego Gas & Electric.

Description: § 205(d) Rate Filing: 2026 RS Filing to be effective 1/1/2026.

Filed Date: 12/16/25.

Accession Number: 20251216-5262.

Comment Date: 5 p.m. ET 1/6/26.

Docket Numbers: TX26-2-000.

Applicants: Desert Jewel Storage, LLC.

Description: Application for Order Directing Transmission Service and Interconnection of Facilities of Desert Jewel Storage, LLC.

Filed Date: 11/14/25.

Accession Number: 20251114-5283.

Comment Date: 5 p.m. ET 1/5/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 16, 2025.
Carlos D. Clay,
Deputy Secretary.

[FR Doc. 2025-23421 Filed 12-18-25; 8:45 am]

BILLING CODE 6717-01-P